DEPARTMENT OF THE INTERIOR

National Park Service

[2410-OYC]

Notice of Extension of Concession Contract

AGENCY: National Park Service, Interior.

ACTION: Public notice.

DATES: Effective Date: January 1, 2011.

FOR FURTHER INFORMATION CONTACT: Jo A. Pendry, Chief, Commercial Services Program, National Park Service, 1201 Eye Street, NW., 11th Floor, Washington, DC 20005, Telephone 202/513-7156.

SUMMARY: Pursuant to 36 CFR 51.23, public notice is hereby given that the National Park Service proposes to extend the following expiring concession contract for a period of up to 1 (one) year, or until such time as a new contract is executed, whichever occurs sooner.

SUPPLEMENTARY INFORMATION: The listed concession authorization will expire by its terms on or before December 31, 2010. The National Park Service has determined that the proposed 1-year extension is necessary in order to avoid interruption of visitor services and has taken all reasonable and appropriate steps to consider alternatives to avoid such interruption.

Conc ID No. | Concessioner name | Park
NACC003-86 | Guest Services, Inc. | National Capital Parks—Central.

FOR FURTHER INFORMATION CONTACT: Jo A. Pendry, Chief, Commercial Services Program, National Park Service, 1201 Eye Street, NW., 11th Floor, Washington, DC 20005, Telephone 202/513-7156.

Dated: January 4, 2011.
Katherine H. Stevenson,
Associate Director, Business Services.

[FR Doc. 2011-691 Filed 1-13-11; 8:45 am]

BILLING CODE 4312-53-P